SMALL BUSINESS ADMINISTRATION

[Disaster Declaration # 13492 and # 13493]

Mississippi Disaster Number MS-00064

AGENCY: U.S. Small Business Administration.

ACTION: Amendment 4.

SUMMARY: This is an amendment of the Presidential declaration of a major disaster for the State of Mississippi (FEMA—4101—DR), dated 02/13/2013.

Incident: Severe Storms, Tornadoes, and Flooding.

Incident Period: 02/10/2013 through 02/22/2013.

Effective Date: 03/04/2013.

Physical Loan Application Deadline Date: 04/15/2013.

EIDL Loan Application Deadline Date: 11/13/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Mississippi, dated 02/13/2013 is hereby amended to include the following areas as adversely affected by the disaster:

Primary Counties: (Physical Damage and Economic Injury Loans):Greene; Perry.

Contiguous Counties: (Economic Injury Loans Only):

Mississippi: George.

Alabama: Mobile.

All other information in the original declaration remains unchanged.

(Catalog of Federal Domestic Assistance Numbers 59002 and 59008)

James E. Rivera,
Associate Administrator for Disaster Assistance.

[FR Doc. 2013-05691 Filed 3-11-13; 8:45 am]

BILLING CODE 8025-01-P